DEPARTMENT OF STATE

[Public Notice 5679]

Amendment to Section IV, Part A of the International Security Advisory Board Charter To Reflect an Increase in Board Membership to Not More Than 25 Members

Advisory Board Charter Amendment: The Department of State announces the amendment of the charter of the Department of State's International Security Advisory Board (ISAB). It has been determined that increasing the Board's membership to 25 members will provide an opportunity for the Board to reflect a greater balance of backgrounds, points of view, and demographic diversity in its policy recommendations. This increase will also permit the Board to conduct more studies simultaneously, which will enhance the Board's responsiveness to study requests by the Secretary and Under Secretary for Arms Control and International Security.

The purpose and scope of the Board remain unchanged. Specifically, the Board will advise and make recommendations to the Secretary on United States arms control, disarmament, international security, and nonproliferation policy and activities.

Contact for information: The staff of the Under Secretary for Arms Control and International Security is responsible for supporting the Board. For additional information, contact Dr. George Look, Bureau of International Security and Nonproliferation, Department of State, Washington, DC 20520, telephone (202) 736-4244.

Dated: March 30, 2007.
George W. Look,
Executive Director, International Security Advisory Board, Department of State.

[FR Doc. E7-6861 Filed 4-10-07; 8:45 am]

BILLING CODE 4710-27-P